DEPARTMENT OF COMMERCE

Bureau of Industry and Security

15 CFR Part 744

[Docket No. 070615200-7202-01]

RIN 0694-AE06

Addition of Entities to the Entity List

AGENCY: Bureau of Industry and Security, Commerce.

ACTION: Final rule.

SUMMARY: The Bureau of Industry and Security (BIS) is amending the Export Administration Regulations (EAR) to add five (5) entities located in Iran to the Entity List. The Entity List is a compilation of end-users that present an unacceptable risk of using or diverting certain items to activities related to weapons of mass destruction. BIS requires a license for most exports or reexports to these entities and maintains the Entity List to inform the public of these license requirements.

DATES: Effective Date: This rule is effective: July 12, 2007. Although there is no formal comment period, public comments on this regulation are welcome on a continuing basis.

ADDRESSES: You may submit comments, identified by RIN 0694-AE06, by any of the following methods:

E-mail: publiccomments@bis.doc.gov Include “RIN 0694-AE06” in the subject line of the message.

Fax: (202) 482-3355. Please alert the Regulatory Policy Division, by calling (202) 482-2440, if you are faxing comments.

Mail or Hand Delivery/Courier: Timothy Mooney, U.S. Department of Commerce, Bureau of Industry and Security, Regulatory Policy Division, 14th St. & Pennsylvania Avenue, NW., Room 2705, Washington, DC 20230, Attn: RIN 0694-AE06.

Send comments regarding the collection of information associated with this rule, including suggestions for reducing the burden, to David Rostker, Office of Management and Budget (OMB), by e-mail to David_Rostker@omb.eop.gov, or by fax to (202) 395-7285; and to the Regulatory Policy Division, Bureau of Industry and Security, Department of Commerce, P.O. Box 273, Washington, DC 20044. Comments on this collection of information should be submitted separately from comments on the final rule (i.e. RIN 0694-AE06)—all comments on the latter should be submitted by one of the three methods outlined above.

FOR FURTHER INFORMATION CONTACT: Michael Rithmire, Chairman, End-User Review Committee, Bureau of Industry and Security, Department of Commerce, P.O. Box 273, Washington, DC 20044; by telephone (202) 482-6105; or by e-mail to mrithmir@bis.doc.gov.

SUPPLEMENTARY INFORMATION:

Background

The End-User Review Committee (ERC) is a U.S. Government interagency group whose activities include reviewing and making recommendations related to end-users of concern to the U.S. Government for export control purposes. The ERC is a part of the “inform by” process. The “inform by” process is an interagency activity to review candidates for addition to the Entity List. This process was established December 10, 1996 by the National Security Council as a reformation of the Enhanced Proliferation Control Initiatives (EPCI). This interagency committee, the ERC, is responsible for reviewing potential additions or deletions from the Entity List.

This rule implements a decision made by the ERC on May 1, 2007 to add five (5) entities in Iran to Supplement No. 4 to part 744 (the Entity List) to inform the public of three (3) of these entities' involvement in prohibited nuclear activities described in § 744.2 of the EAR and two (2) of these entities' involvement in prohibited rocket systems and unmanned aerial vehicle activities described in § 744.3 of the EAR based upon the sanctions imposed on these entities pursuant to United Nations Security Council Resolution 1737 and Executive Order 13382 (70 FR 38567, July 1, 2005). The ERC determined that for the three (3) entities listed pursuant to § 744.2(b) of the EAR, there is an unacceptable risk of use in, or diversion to, any of the activities described in § 744.2(a) of the EAR, and that for the two (2) entities listed pursuant to § 744.3(b) of the EAR, there is an unacceptable risk of use in, or diversion to, activities described in § 744.3(a)(1) or (a)(2).

To implement the May 1, 2007 ERC decision, this rule makes the following revisions to the Export Administration Regulations (EAR):

Additions to the Entity List

Pursuant to 15 CFR 744.2(b), this rule amends Supplement No. 4 to part 744 (the Entity List) by adding three (3) entities located in Iran to the Entity List. This notifies the public that a license is required for the export or reexport of all items subject to the EAR to: Atomic Energy Organization of Iran (a.k.a. Sazeman-E Energy Atomi), P.O. Box 14144-1339, End of North Karegar Avenue, Tehran, Iran; Kala Electric Company (a.k.a. Kalaye Electric Company), 33 Fifteenth (15th) Street, Seyed-Jamal-Eddin-Assad Abadi Avenue, Tehran, Iran; and, Mesbah Energy Company (a.k.a. “MEC”), 77 Armaghan Gharbi Street, Valiasr Blve,Tehran, Iran.

Also in Supplement No. 4, pursuant to 15 CFR 744.3(b), this rule adds two (2) entities in Iran to the Entity List. This notifies the public that a license is required for the export or reexport of all items subject to the EAR to: Shahid Bakeri Industrial Group (a.k.a. “SBIG”), Tehran, Iran; and, Shahid Hemmat Industrial Group (a.k.a. “SHIG”), Damavand Tehran Highway, Tehran, Iran. License applications for these five entities will be considered with a presumption of denial for all items subject to the EAR.

Savings Clause

Shipments of items removed from eligibility for a License Exception or for export or reexport without a license (NLR) as a result of this regulatory action that were on dock for loading, on lighter, laden aboard an exporting or reexporting carrier, or en route aboard a carrier to a port of export or reexport on July 12, 2007, pursuant to actual orders for export or reexport to a foreign destination, may proceed to that destination under the previous eligibility for a License Exception or export or reexport without a license (NLR) so long as they are exported or reexported before August 13, 2007. Any such items not actually exported or reexported before midnight on August 13, 2007 require a license in accordance with this rule.

Since August 21, 2001, the Export Administration Act has been in lapse and the President, through Executive Order 13222 of August 17, 2001 (3 CFR, 2001 Comp. 783 (2002)), as extended most recently by the Notice of August 3, 2006, 71 FR 44551 (Aug. 7, 2006), has continued the EAR in effect under the International Emergency Economic Powers Act. BIS continues to carry out the provisions of the Act, as appropriate and to the extent permitted by law, pursuant to Executive Order 13222.

Rulemaking Requirements

1. This final rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission. Total burden hours associated with the Paperwork Reduction Act and Office Management and Budget control number 0694-0088 are expected to increase slightly as a result of this rule.

3. This rule does not contain policies with Federalism implications as that term is defined under Executive Order 13132.

4. The provisions of the Administrative Procedure Act requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 3, 2006, 71 FR 44551 (August 7, 2006); Notice of October 27, 2006, 71 FR 64109 (October 31, 2006).

2. Supplement No. 4 to part 744 is amended immediately following the country of India, by adding, in alphabetical order, the country of Iran and Iranian entities: “Atomic Energy Organization of Iran (a.k.a. Sazeman-E Energy Atomi), P.O. Box 14144-1339, End of North Karegar Avenue, Tehran, Iran”; “Kala Electric Company (a.k.a. Kalaye Electric Company), 33 Fifteenth (15th) Street, Seyed-Jamal-Eddin-Assad Abadi Avenue, Tehran, Iran”; “Mesbah Energy Company (a.k.a. ‘MEC’), 77 Armaghan Gharbi Street, Valiasr Blve,Tehran, Iran”; “Shahid Bakeri Industrial Group (a.k.a. ‘SBIG’), Tehran, Iran”; and, “Shahid Hemmat Industrial Group (a.k.a. ‘SHIG’), Damavand Tehran Highway, Tehran, Iran”; and the License Requirement column, License Review Policy column and Federal Register Citation column for these entities, to read as follows.

Supplement No. 4 to Part 744.—Entity List
Country | Entity | License requirement | License review policy | Federal Register citation
* * * * * * *
IRAN | Atomic Energy Organization of Iran (a.k.a. Sazeman-E Energy Atomi), P.O. Box 14144-1339, End of North Karegar Avenue, Tehran, Iran | For all items subject to the EAR. (See § 744.2 of the EAR) | Presumption of denial | 72 FR [INSERT FR PAGE NUMBER], 07/12/07.
| Kala Electric Company (a.k.a. Kalaye Electric Company), 33 Fifteenth (15th) Street, Seyed-Jamal-Eddin-Assad Abadi Avenue, Tehran, Iran | For all items subject to the EAR. (See § 744.2 of the EAR) | Presumption of denial | 72 FR [INSERT FR PAGE NUMBER], 07/12/07.
| Mesbah Energy Company (a.k.a. “MEC”), 77 Armaghan Gharbi Street, Valiasr Blve,Tehran, Iran | For all items subject to the EAR. (See § 744.2 of the EAR) | Presumption of denial | 72 FR [INSERT FR PAGE NUMBER], 07/12/07.
| Shahid Bakeri Industrial Group (a.k.a. “SBIG”), Tehran, Iran | For all items subject to the EAR. (See § 744.3 of the EAR) | Presumption of denial | 72 FR [INSERT FR PAGE NUMBER], 07/12/07.
| Shahid Hemmat Industrial Group (a.k.a. “SHIG”), Damavand Tehran Highway, Tehran, Iran | For all items subject to the EAR. (See § 744.3 of the EAR) | Presumption of denial | 72 FR [INSERT FR PAGE NUMBER], 07/12/07.
* * * * * * *

* * * * *

Dated: July 9, 2007.
Christopher A. Padilla,
Assistant Secretary for Export Administration.

[FR Doc. E7-13551 Filed 7-11-07; 8:45 am]

BILLING CODE 3510-33-P